DEPARTMENT OF THE INTERIOR

Bureau of Land Management

[ID-933-5420-PN-D034, GPO-05-0005; IDI-34908]

Disclaimer of Interest in Lands, Idaho

AGENCY: Bureau of Land Management, Interior.

ACTION: Notice.

SUMMARY: An application has been filed by Dana L. Hofstetter, Attorney at Law on behalf of Ray and Dorolene Obendorf and prospective purchaser, Jim Scarrow, for a recordable disclaimer of interest from the United States.

DATES: Comments or protests to this action should be received by May 23, 2005.

ADDRESSES: Comments or protests must be filed with: State Director (ID933), Bureau of Land Management, 1387 S. Vinnell Way, Boise, ID 83709.

FOR FURTHER INFORMATION CONTACT: Cathie Foster, BLM, Idaho State Office, 1387 S. Vinnell Way, Boise, Idaho 83709, (208) 373-3863 or Effie Schultsmeier, BLM, Four Rivers Field Office, 3948 Development Avenue, Boise, Idaho 83705, (208) 384-3357.

SUPPLEMENTARY INFORMATION: Pursuant to Section 315 of the Federal Land Policy and Management Act of 1976 (43 U.S.C. 1745), Dana L. Hofstetter has filed an application requesting the United States issue a recordable disclaimer of interest. The disclaimer of interest has been requested to disclaim and release all interest that the United States might have to Warnicks Reservoir and access thereto, as reserved in Patent No. 1235737 dated April 16, 1964, to wit:

This patent is issued subject to a reservation to the United States for the Warnicks Reservoir, Bureau of Land Management Project No. 896 in the SW¼SW¼SW¼NE¼ said Section 23, (T. 6 N., R. 5 W., B.M.), together with the right of egress and ingress from the adjacent public lands of the United States, and for public use as described in the Consent to Reservation, dated October 5, 1961, filed in case record Idaho 011357.

Based on a field exam and report prepared by the BLM's Four Rivers Field Office, there is no longer a reservoir in the SW¼SW¼SW¼NE¼ of Section 23, T. 6 N., R. 5 W. The subject land is currently being farmed with the adjoining fields. A 1992 photograph shows no evidence of a reservoir at this location and it appears that the area has been farmed for many years. In addition, there are no public lands adjacent to the subject lands and as the original reservation reserved the right of egress and ingress from the adjacent public lands of the United States, there is no need to retain the reservation for access. Therefore it has been determined that there is no known public interest in the reservoir or access thereto, as the reservoir no longer exists. Therefore, the application by Dana Hofstetter for a disclaimer for the Warnicks Reservoir reservation in Patent No. 1235737 from the United States will be approved if no valid objection is received. This action will clear a cloud on the title of Ray and Dorolene Obendorf's, or prospective purchaser, Jim Scarrow's, land.

Comments, including names and street addresses of respondents will be available for public review at the Idaho State Office, Bureau of Land Management, 1387 S. Vinnell Way, Boise, Idaho during regular business hours 9 a.m. to 4 p.m. Monday through Friday, except holidays. Individual respondents may request confidentiality. If you wish to withhold your name or address from public review or from disclosure under the Freedom of Information Act, you must state this prominently at the beginning of your comments. Such requests will be honored to the extent allowed by law. All submissions from organizations or businesses and from individuals identifying themselves as representatives or officials of organizations or businesses will be made available for public inspection in their entirety.

Dated: January 24, 2005.
Jimmie Buxton,
Chief, Branch of Lands, Minerals and Water Rights, Resource Services Division.

[FR Doc. 05-3299 Filed 2-18-05; 8:45 am]

BILLING CODE 4310-GG-P